DEPARTMENT OF ENERGY

Federal Energy Regulatory Commission

Combined Notice of Filings #1

Take notice that the Commission received the following electric corporate filings:

Docket Numbers: EC13-68-000.

Applicants: Public Service Company of New Mexico, Delta Person GP, LLC, BHB Power, LLC, Delta Person, Limited Partnership.

Description: Joint Application for Authorization Under Section 203 of the Federal Power Act for Disposition of Jurisdictional Facilities and Request for Confidential Treatment of Delta Person Limited Partnership, et al.

Filed Date: 1/24/13.

Accession Number: 20130124-5149.

Comments Due: 5 p.m. ET 2/14/13.

Take notice that the Commission received the following electric rate filings:

Docket Numbers: ER10-1817-003.

Applicants: Southwestern Public Service Company.

Description: Supplement to June 29, 2012 Triennial Market Power Analysis of Southwestern Public Service Company.

Filed Date: 1/24/13.

Accession Number: 20130124-5146.

Comments Due: 5 p.m. ET 2/14/13.

Docket Numbers: ER10-1817-004; ER10-1818-003; ER10-1819-004; ER10-1820-006.

Applicants: Southwestern Public Service Company, Public Service Company of Colorado, Northern States Power Company, a Wisconsin Corporation, Northern States Power Company, a Wisconsin Corporation.

Description: Change in Status Report Compliance Filing by Xcel Energy Services Inc. on behalf of Northern States Power Company, a Minnesota Corporation, et. al.

Filed Date: 1/25/13.

Accession Number: 20130125-5090.

Comments Due: 5 p.m. ET 2/15/13.

Docket Numbers: ER10-1946-003; ER11-3859-005; ER11-3863-004; ER11-3861-004; ER11-3864-005; ER11-3866-005; ER12-192-003; ER11-3867-005; ER11-3857-005; ER12-1725-001.

Applicants: Broad River Energy LLC, Dighton Power, LLC, ECP Energy I, LLC, Empire Generating Co, LLC, EquiPower Resources Management, LLC, Lake Road Generating Company, L.P., Liberty Electric Power, LLC, MASSPOWER, Milford Power Company, LLC, AES Red Oak Power, LLC.

Description: Notice of Change in Status of Broad River Energy LLC, et. al.

Filed Date: 1/25/13.

Accession Number: 20130125-5089.

Comments Due: 5 p.m. ET 2/15/13.

Docket Numbers: ER12-2206-002.

Applicants: Southern California Edison Company.

Description: Compliance SGIA Filing with Western Antelope Dry Ranch LLC to be effective 7/6/2012.

Filed Date: 1/25/13.

Accession Number: 20130125-5002.

Comments Due: 5 p.m. ET 2/15/13.

Docket Numbers: ER12-2208-002.

Applicants: Southern California Edison Company.

Description: Compliance Filing SGIA with Western Antelope Blue Sky Ranch A LLC to be effective 7/6/2012.

Filed Date: 1/25/13.

Accession Number: 20130125-5001.

Comments Due: 5 p.m. ET 2/15/13.

Docket Numbers: ER13-530-001.

Applicants: Arizona Public Service Company.

Description: Refund Report Ajo Improvement Company, Docket No. ER13-530-001 to be effective N/A.

Filed Date: 1/25/13.

Accession Number: 20130125-5039.

Comments Due: 5 p.m. ET 2/15/13.

Docket Numbers: ER13-555-001.

Applicants: Michigan Electric Transmission Company, LLC.

Description: Amendment Filing of METC to be effective 2/12/2013.

Filed Date: 1/25/13.

Accession Number: 20130125-5058.

Comments Due: 5 p.m. ET 2/15/13.

Docket Numbers: ER13-797-000.

Applicants: EBRFUEL, LLC.

Description: Ebrfuel LLC, FERC Electric Tariff to be effective 3/24/2013.

Filed Date: 1/25/13.

Accession Number: 20130125-5020.

Comments Due: 5 p.m. ET 2/15/13.

Docket Numbers: ER13-798-000.

Applicants: GDF SUEZ Energy Marketing NA, Inc.

Description: Notice of Succession to be effective 1/26/2013.

Filed Date: 1/25/13.

Accession Number: 20130125-5022.

Comments Due: 5 p.m. ET 2/15/13.

Docket Numbers: ER13-799-000.

Applicants: PacifiCorp.

Description: CAISO First Amended Operating Agreement Concurrence to be effective 4/1/2013.

Filed Date: 1/25/13.

Accession Number: 20130125-5069.

Comments Due: 5 p.m. ET 2/15/13.

Take notice that the Commission received the following land acquisition reports:

Docket Numbers: LA12-4-000.

Applicants: Duke Energy Corporation.

Description: Quarterly Land Acquisition Report of Duke Energy MBR Affiliates.

Filed Date: 1/25/13.

Accession Number: 20130125-5103.

Comments Due: 5 p.m. ET 2/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 25, 2013.
Nathaniel J. Davis, Sr.,
Deputy Secretary.

[FR Doc. 2013-02184 Filed 1-31-13; 8:45 am]

BILLING CODE 6717-01-P